DEPARTMENT OF ENERGY

Federal Energy Regulatory Commission

Combined Notice of Filings #1

Take notice that the Commission received the following electric corporate filings:

Docket Numbers: EC17-173-000.

Applicants: Southern California Edison Company.

Description: Application for Authorization under Section 203 of the FPA to Merge Jurisdictional Facilities of Southern California Edison Company.

Filed Date: 9/6/17.

Accession Number: 20170906-5181.

Comments Due: 5 p.m. ET 9/27/17.

Docket Numbers: EC17-174-000.

Applicants: Consolidated Edison Company of New York, Inc.

Description: Application of Consolidated Edison Company of New York, Inc. under New Docket for an order pursuant to Section 203 of the Federal Power Act.

Filed Date: 9/6/17.

Accession Number: 20170906-5183.

Comments Due: 5 p.m. ET 9/27/17.

Take notice that the Commission received the following exempt wholesale generator filings:

Docket Numbers: EG17-149-000.

Applicants: CA Flats Solar 150, LLC.

Description: Notice of Self-Certification of Exempt Wholesale Generator (EWG) of CA Flats Solar 150, LLC.

Filed Date: 9/6/17.

Accession Number: 20170906-5178.

Comments Due: 5 p.m. ET 9/27/17.

Docket Numbers: EG17-150-000.

Applicants: Florey Knob Energy LLC.

Description: Notice of Self-Certification of Exempt Wholesale Generator Status of Florey Knob Energy LLC.

Filed Date: 9/7/17.

Accession Number: 20170907-5054.

Comments Due: 5 p.m. ET 9/28/17.

Take notice that the Commission received the following electric rate filings:

Docket Numbers: ER10-3069-007; ER10-3070-007.

Applicants: Alcoa Power Generating Inc., Alcoa Power Marketing LLC.

Description: Supplement to June 27, 2017 Southeast Regional Triennial Submission and Notice of Change in Status of the Alcoa Subsidiaries.

Filed Date: 9/6/17.

Accession Number: 20170906-5192.

Comments Due: 5 p.m. ET 9/27/17.

Docket Numbers: ER17-1795-001.

Applicants: Southwest Power Pool, Inc.

Description: Tariff Amendment: Deficiency Response in ER17-1795—Classify Service Upgrade as Base Plan Upgrade to be effective 8/8/2017.

Filed Date: 9/7/17.

Accession Number: 20170907-5166.

Comments Due: 5 p.m. ET 9/28/17.

Docket Numbers: ER17-2185-001.

Applicants: Great Valley Solar 1, LLC.

Description: Tariff Amendment: Great Valley Solar 1, LLC Amendment to SFA Filing and Request to be effective 10/1/2017.

Filed Date: 9/7/17.

Accession Number: 20170907-5115.

Comments Due: 5 p.m. ET 9/28/17.

Docket Numbers: ER17-2193-001.

Applicants: Great Valley Solar 1, LLC.

Description: Tariff Amendment: Great Valley Solar 1, LLC Amendment to LGIA CTA Filing and Request to be effective 10/1/2017.

Filed Date: 9/7/17.

Accession Number: 20170907-5117.

Comments Due: 5 p.m. ET 9/28/17.

Docket Numbers: ER17-2434-001.

Applicants: Duke Energy Progress, LLC.

Description: Tariff Amendment: Amendment to Filing in ER17-2434 to be effective 7/1/2017.

Filed Date: 9/7/17.

Accession Number: 20170907-5138.

Comments Due: 5 p.m. ET 9/28/17.

Docket Numbers: ER17-2441-000.

Applicants: Southwest Power Pool, Inc.

Description: § 205(d) Rate Filing: 3356 Milligan 1 Wind LLC Generator Interconnection Agreement to be effective 8/24/2017.

Filed Date: 9/7/17.

Accession Number: 20170907-5000.

Comments Due: 5 p.m. ET 9/28/17.

Docket Numbers: ER17-2442-000.

Applicants: Southwest Power Pool, Inc.

Description: § 205(d) Rate Filing: 3357 Monument Road Wind LLC Generator Interconnection Agreement to be effective 8/24/2017.

Filed Date: 9/7/17.

Accession Number: 20170907-5001.

Comments Due: 5 p.m. ET 9/28/17.

Docket Numbers: ER17-2443-000.

Applicants: Midcontinent Independent System Operator, Inc.

Description: § 205(d) Rate Filing: 2017-09-07_SA 3046 Upland Prairie-MEC GIA (J455) to be effective 8/23/2017.

Filed Date: 9/7/17.

Accession Number: 20170907-5021.

Comments Due: 5 p.m. ET 9/28/17.

Docket Numbers: ER17-2444-000.

Applicants: Midcontinent Independent System Operator, Inc.

Description: § 205(d) Rate Filing: 2017-09-07_SA 3045 Ida Grove-MEC GIA (J412) to be effective 8/23/2017.

Filed Date: 9/7/17.

Accession Number: 20170907-5065.

Comments Due: 5 p.m. ET 9/28/17.

Docket Numbers: ER17-2445-000.

Applicants: MET New York Trading LLC.

Description: Tariff Cancellation: Cancellation of Market Based Rate Tariff to be effective 9/8/2017.

Filed Date: 9/7/17.

Accession Number: 20170907-5107.

Comments Due: 5 p.m. ET 9/28/17.

Docket Numbers: ER17-2446-000.

Applicants: Avista Corporation.

Description: Avista Corporation submits Average System Cost Filing for Sales of Electric Power to the Bonneville Power Administration, FY 2018-2019.

Filed Date: 9/7/17.

Accession Number: 20170907-5118.

Comments Due: 5 p.m. ET 9/28/17.

Docket Numbers: ER17-2447-000.

Applicants: Public Service Company of Colorado.

Description: § 205(d) Rate Filing: OATT Att O-PSCo AGIS Update to be effective 1/1/2017.

Filed Date: 9/7/17.

Accession Number: 20170907-5128.

Comments Due: 5 p.m. ET 9/28/17.

Docket Numbers: ER17-2448-000.

Applicants: Public Service Company of Colorado.

Description: § 205(d) Rate Filing: 20170907_AGIS Filing to be effective 1/1/2017.

Filed Date: 9/7/17.

Accession Number: 20170907-5147.

Comments Due: 5 p.m. ET 9/28/17.

Take notice that the Commission received the following foreign utility company status filings:

Docket Numbers: FC17-6-000.

Applicants: I Squared Capital.

Description: Notification of Self Certification of Foreign Utility Company Status of I Squared Capital.

Filed Date: 9/7/17.

Accession Number: 20170907-5023.

Comments Due: 5 p.m. ET 9/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2017.
Nathaniel J. Davis, Sr.,
Deputy Secretary.

[FR Doc. 2017-19408 Filed 9-12-17; 8:45 am]

BILLING CODE 6717-01-P